POSTAL SERVICE

39 CFR Part 111

Domestic Mail Manual; Miscellaneous Amendments

AGENCY: Postal Service.

ACTION: Final rule.

SUMMARY: This document describes the numerous amendments consolidated in the Transmittal Letter for Issue 57 of the Domestic Mail Manual, which is incorporated by reference in the Code of Federal Regulations; see 39 CFR 111.1. These amendments reflect changes in mail preparation requirements and other rules and regulations.

EFFECTIVE DATE: June 30, 2002.

FOR FURTHER INFORMATION CONTACT: Anne Emmerth, (703) 292-3641.

SUPPLEMENTARY INFORMATION: The Domestic Mail Manual (DMM), incorporated by reference in title 39, Code of Federal Regulations, part 111, contains the basic standards of the U.S. Postal Service governing its domestic mail services, descriptions of the mail classes and special services and conditions governing their use, and standards for rate eligibility and mail preparation. The document is amended and republished periodically, with each issue sequentially numbered. Interim updates of the DMM are posted monthly on the USPS Postal Explorer Web site (http://pe.usps.gov). DMM Issue 57, the next printed edition, is dated June 30, 2002. Issue 57 contains all changes previously published in the Federal Register (including the changes to implement the R2001-1 Omnibus Rate Case, published in 67 FR 18684) and all other changes listed below. Announcements were first published in the Federal Register and/or various issues of the Postal Bulletin, an official biweekly document published by the Postal Service.

In addition, the revised table of contents of DMM Issue 57 is presented.

Domestic Mail Manual Issue 57

Summary of Rate Case Changes

The following changes were adopted as part of the R2001-1 Omnibus Rate Case. These changes are effective June 30, 2002.

A ADDRESSING

A010 is amended to remove references to upgradable mail and to include a preferred location for addresses on letter-size pieces.

The title of A800 is changed to show the standards apply to all automation-compatible mail, not just mail claimed at automation rates.

A950 is revised to clarify that the mailer's signature on a postage statement certifies the mail meets the requirements for the rates claimed and to change the requirements for filing Form 3553, Coding Accuracy Support System (CASS) Summary Report. Mailers are no longer required to submit Form 3553 with each mailing.

C CHARACTERISTICS AND CONTENT

C010 is amended to show that Standard Mail Enhanced Carrier Route (ECR) letters are subject to the standards for mailpiece dimensions and to remove information about the First-Class Mail nonstandard surcharge. C050 is amended to add the nonmachinable characteristics for letters.

C100.2.7 is amended to clarify the guidelines for perforations and tearing guides on cards. C100.4.0 is revised to reflect changes to the nonmachinable surcharge (formerly the “nonstandard surcharge”) for some First-Class Mail letters and flats.

C700 is amended to note that mailpieces meeting any of the characteristics listed in C700.2.0 and that are mailed at the DSCF Parcel Select rate are subject to the nonmachinable surcharge.

C810 is amended to remove references to upgradable First-Class Mail and Standard Mail, to increase the weight limit for Standard Mail automation and ECR letters to 3.5 ounces, and to clarify that signing a postage statement certifies the mail meets the requirements for the rates claimed.

C820 is amended to add a weight limit for Bound Printed Matter flats claimed at automation rates.

C830 is deleted. C830 contained standards for upgradable mail, including address placement, OCR read area, fonts, and reflectance. The upgradable preparation for letters is replaced with a machinable preparation; the machinable preparation has no requirements for address placement, OCR read area, etc.

C840 is amended to remove references to upgradable mail.

D DEPOSIT, COLLECTION, AND DELIVERY

D210.3.4 is amended to show that the destination sectional center facility (DSCF) rate will apply to eligible mail entered at the DSCF under exceptional dispatch. D210.4.0 is revised to show that the DSCF rate will not apply to mail entered at airport mail facilities (AMFs).

D230.2.2 and 4.6 are deleted to remove the standards for Periodicals contingency entries.

D500 is amended to include additional circumstances that affect postage refund requests for Express Mail when the service guarantee is not met.

E ELIGIBILITY

E110.3.0 is amended to clarify the eligibility for pieces mailed at First-Class Mail card rates.

E120.2.2 is amended to change the Priority Mail flat rate from the 2-pound rate to the 1-pound rate. E120.2.4 reflects changes to show that keys and identification devices that weigh more than 13 ounces but not more than 1 pound are returned at the 1-pound Priority Mail rate plus the fee shown in R100.10.0. Keys and identification devices that weigh more than 1 pound but not more than 2 pounds are charged the 2-pound Priority Mail rate for zone 4 plus the fee in R100.10.0.

E130 is amended to show that the nonmachinable surcharge will apply to keys and identification devices, certain letter-size and flat-size pieces mailed at single-piece and Presorted rates, and all pieces where the mailer chooses the manual only (“do not automate”) preparation option. It also is amended to clarify that signing a postage statement certifies the mail meets the requirements for the rates claimed.

E140 is amended to reorganize the information about rate application into two separate sections: one for cards and letter-size mail (2.0) and one for flat-size mail (3.0). E140.2.0 is amended to replace the basic rate with the new AADC and mixed AADC rates. E140.3.0 is amended to replace the basic rate with the new ADC and mixed ADC rates and to clarify the definition of a piece that is subject to the nonmachinable surcharge. E140 is amended to clarify that signing a postage statement certifies the mail meets the requirements for the rates claimed.

E217.1.0 and 3.0 are amended to reflect references to the new destination area distribution center (DADC) rates and discounts for Outside-County and Outside-County Science-of-Agriculture rates. E217.5.0 is restructured for clarity and amended to include standards for the new per piece pallet and per piece destination entry pallet discounts.

The standards for combining multiple publications or editions in E220.3.0 and E230.4.0 are consolidated into new M230. E220 and E240 are amended to clarify that signing a postage statement certifies the mail meets the requirements for the rates claimed.

E250 is revised in its entirety to clarify standards for all destination entry Periodicals mailings; to include the new destination area distribution center (DADC) entry rates and discounts; and to reflect that for rate eligibility DSCF pieces must be deposited at the DSCF or a USPS-designated facility. E250.1.1 clarifies that for rate eligibility an individual package, tray, sack, or pallet may contain pieces claimed at different destination entry rates and discounts.

New E260 (former G094) describes the standards for the Periodicals Ride-Along classification and rate, which is now a permanent classification. All of G094 is moved except for 2.0 and 3.0. Former 2.0, which contains the rate information, appears in R200. Former 3.0 is deleted, as publishers are no longer required to submit additional documentation with Ride-Along mailings.

E500 is amended to change the Express Mail flat rate from the 2-pound rate to the 1/2-pound rate.

E610.8.0 is amended to remove references to upgradable Standard Mail.

E620 is amended to remove references to upgradable mail and to show that the nonmachinable surcharge may apply to letter-size pieces that weigh 3.3 ounces or less and to all pieces where the mailer chooses the manual only (“do not automate”) option. E620.1.2 is amended to remove the requirement that residual volumes must appear on the same postage statement.

E630 is reorganized for clarity. Standards are added to show that ECR letter-size pieces mailed at saturation and high density letter rates must be automation-compatible and must have a delivery point barcode. New language is added to explain the discount for automation-compatible pieces that weigh between 3.3 and 3.5 ounces.

E640 is amended to replace the basic automation letter rate with the new AADC and mixed AADC rates and to add the discount for automation letters that weigh between 3.3 and 3.5 ounces. E640.2.0 is amended to add the discount for ECR basic automation letters that weigh between 3.3 and 3.5 ounces.

E620 and E640 are amended to clarify that signing a postage statement certifies the mail meets the requirements for the rates claimed.

E712.1.1b is revised to add a weight limit for BPM flats claiming the barcoded discount. E712.1.4, which excluded BPM flats from eligibility to receive an automation rate, is removed. E712.2.0 is amended to add a new standard for BPM automation flats. E712.2.0e is added to include a barcoded discount for automation flats. E712.3.0 is amended to clarify that the mailer's signature on the postage statement certifies the mail meets the requirements for the rates claimed.

E713 and E714 are revised in their entirety to reflect the format used for BPM in E712. E713 and E714 are amended to show the new basic rate and to reduce the mailing minimum from 500 pieces to 300 pieces.

E751.1.1 is amended to add provisions to require mail on pallets for 3-digit ZIP Code prefixes to be entered at the SCF. E751.1.4 is amended to clarify that nonmachinable parcels sorted to 3-digit ZIP Code prefixes must be entered at a designated SCF. In E751.2.2 references are added to allow the preparation of 3-digit sacks and 3-digit pallets. E751.5.0 and E753 are amended to change the references from “BMC rate” to “basic rate.”

F FORWARDING AND RELATED SERVICES

F010.4.0 is amended to remove references to nonstandard mail. F010.5.2 is amended to show that the nonmachinable surcharge can be charged on Periodicals returned at First-Class Mail single-piece rates. F010.5.3 is amended to show that the First-Class Mail single-piece nonmachinable surcharge is included in the calculation of the weighted fee for returned pieces and is charged on some returned Standard Mail pieces. F010.6.0 is amended to include these same changes.

F030.1.1 is amended to clarify the circumstances under which address notices are not provided by the Postal Service.

G GENERAL INFORMATION

G091.4.0 is revised to clarify that some pieces using NetPost Mailing Online are eligible for the mixed ADC or mixed AADC rate.

L LABELING LISTS

The titles and summaries of labeling lists L001, L800, L802, and L803 are amended to reflect new mail preparation options.

M MAIL PREPARATION AND SORTATION

M011.1.3 is amended to show that a full letter tray is defined as one that is between 75% and 100% full. M011.1.4 is amended to remove references to upgradable mailings, to show that machinable and nonmachinable pieces cannot be part of the same mailing, and to show that ECR letter rate pieces cannot be part of the same mailing as nonletter rate pieces. M012.2.0 is revised to update information about multiline optical character reader (MLOCR) markings. M012.3.3 is revised to include additional rate markings for BPM Presorted barcoded flats and BPM carrier route flats. M012.4.5 is deleted to remove references to upgradable mail.

M020.1.6 is amended to include Media Mail and Library Mail in the requirements for package size. In addition, the maximum weight for packages in sacks is 20 pounds unless otherwise noted, and packages of BPM automation flats must meet the preparation requirements in M820. M020.2.0 is amended to include additional standards for packaging Media Mail and Library Mail. M020.2.1 is amended to remove references to the upgradable preparation for First-Class Mail and Standard Mail and to show that nonmachinable and manual-only pieces must be packaged. M020.2.2 is amended to require that Media Mail and Library Mail pieces meet specific weight limits when placed in sacks or on pallets.

The container labeling requirements in M031.5.0 are amended to revise the Line 2 codes for “carrier routes,” “letters,” and “machinable” and to add a new Line 2 code for “manual.” M032 Exhibit 1.3a is amended to change the content identifier number (CIN) codes for the new machinable and nonmachinable preparation for First-Class Mail and Standard Mail letter-size pieces. The exhibit also is amended to add new CIN codes for Standard Mail ECR letters and designate CIN codes for certain Package Services flat-size pieces. M033.2.0 is amended to clarify standards for filling letter trays.

M041.5.0 is amended to show that the minimum volume for letter trays on pallets can be measured in linear feet or by the number of layers of trays on the pallet. M041.5.5 is amended to clarify the maximum load of a pallet. M045.3.2 is amended to add that pallets with carrier route mail must show whether the mail is barcoded, machinable, or manual. M045.3.3 through 3.5 show revised titles that include Media Mail and Library Mail. M050.4.1 is amended to show that signing a postage statement certifies the mail meets the requirements for the rates claimed.

M130 is revised to show the packaging, traying, and labeling standards for machinable, nonmachinable, and “manual only” letter-size mail.

The standards for combining multiple publications or editions in M210.6.0 and M220.6.0 are consolidated and relocated in new M230.

M610 is revised to show the packaging, traying, and labeling standards for machinable, nonmachinable, and manual only letter-size mail. M630 is revised to show the new Line 2 labeling for trays of ECR letter-size pieces.

M710.2.1 is revised to add provisions for a 3-digit sort level for nonmachinable parcels claiming DSCF rates. M730 and M740 are amended to change references from “BMC rate” to “basic rate” and to include separate preparation standards for Media Mail and Library Mail flats, irregular parcels, and machinable parcels. The option to prepare sacks based on a minimum of 1,000 cubic inches of mail is added for Media Mail and Library Mail.

M810.1.0 is amended to replace references to the automation basic rate for letter-size pieces with the new AADC and mixed AADC rates. M810.2.0 is amended to show the new Line 2 labeling format for First-Class Mail and Standard Mail carrier route automation letters.

M820.1.0 is amended to replace references to the automation basic rate for flat-size pieces with the new ADC and mixed ADC rates. M820.6.1 is revised to provide packaging and sacking standards for flat-size pieces eligible for the Bound Printed Matter automation rates.

P POSTAGE AND PAYMENT METHODS

P011.1.0 is amended to reflect that the nonstandard surcharge is replaced with the new nonmachinable surcharge.

P012.2.0 is amended to require standardized documentation for Bound Printed Matter flats entered at automation rates and to add new rate level abbreviations for the AADC, ADC, mixed AADC, and mixed ADC rates. P012.3.0 is amended to reflect references to the new DADC rate for Periodicals. P012.4.0 is amended to clarify the standards for facsimile postage statements.

P013.1.0 is amended to clarify the rate calculation and computation standards. P013.2.0 is amended to reflect the zoning of Priority Mail rates affecting all pieces over 1 pound. This section also is amended to reflect that each Express Mail or Priority Mail flat-rate envelope is charged the Express Mail ½-pound rate or the Priority Mail 1-pound rate. P013.8.0 is amended to show how to calculate postage for Standard Mail automation rate letter-size pieces and ECR automation-compatible letter-size pieces that weigh more than 3.3 ounces.

P014.5.0 is amended to expand the circumstances under which the Postal Service may deny Express Mail postage refund requests when the service guarantee is not met.

P021.3.1 is amended to note the availability of stamped cards.

P100.4.0 and 5.0 are amended to change “nonstandard surcharge” to “nonmachinable surcharge.”

P200.1.5 is amended to include requirements for separating DADC entry pieces if the mailing is not presented with mailing documentation at the time of postal verification. New P200.1.8 contains the standards relocated from P200.2.4 for waiving nonadvertising rates.

P600.2.0 is amended to include standards for the new nonmachinable surcharge for Standard Mail and to add calculations for automation and ECR heavy letters.

P910 is amended to add new rate category abbreviations for the AADC, ADC, mixed AADC, and mixed ADC rates for First-Class Mail and Standard Mail.

P950 is revised in its entirety to clarify the standards that apply to plant-verified drop shipment (PVDS).

P960 is amended to clarify when MLOCR markings must appear on mailpieces and to add new markings for the AADC, ADC, mixed AADC, and mixed ADC rates for First-Class Mail and Standard Mail.

R RATES AND FEES

Module R is revised in its entirety to reflect the new rates and fees for all classes of mail and special services.

S SPECIAL SERVICES

S010 and S500 are amended to reduce the indemnity included in the base price of Express Mail service from $500 to $100.

S020 is amended to increase the maximum amount of a single money order from $700 to $1,000.

S911 and S912 are amended to include the new service enhancement for registered mail and certified mail. This enhancement will allow mailers to obtain delivery information at www.usps.com by entering the article number shown on the mailing receipt.

S918 and S919 are amended to extend Delivery Confirmation and Signature Confirmation to First-Class Mail parcels, and also to limit this service for Package Services mail to parcels. S918 and S919 also specify that for the purposes of adding Delivery Confirmation or Signature Confirmation service, a parcel is required to meet the definition in C100.5.0 or C700.1.0.

Summary of Other Changes by DMM Module

A ADDRESSING

A010.1.2, A010.3.2, and A010.5.3 are revised to reflect changes in mail delivery procedures to commercial mail receiving agencies. Effective 9-7-00.

A010.4.3 is revised to remove the requirement that a return address appear on Bound Printed Matter pieces with no ancillary service endorsement or special service. Effective 9-6-01.

A920 is revised to reflect a new option for mailing list owners to have their address lists sequenced electronically. Effective 7-1-01.

A930 is revised to fully describe mail sequencing product options. Effective 9-6-01.

C CHARACTERISTICS AND CONTENT

C010.6.5 is revised to allow more flexibility in designing and producing reusable envelopes. Effective 5-2-02.

C010.8.3 and C050.4.2 are amended to clarify that soft goods weighing more than 5 pounds may be mailed as machinable parcels. Effective 3-8-01.

C023.11.5 is revised to amend the standards for the mailability of magnetized materials. This amendment aligns the postal standards for magnetized materials with the U.S. Department of Transportation (DOT) regulations in Title 49, Code of Federal Regulations (49 CFR). Effective 6-14-01.

C200.1.4b is revised to amend the standard for loose enclosures at Periodicals rates. The revised standard allows as permissible enclosures receipts, requests, orders for a subscription, and printed matter (which is part of or accompanied by and related exclusively to a request or order for a subscription) for any Periodicals publication (including publications pending Periodicals authorization), provided other products or services are not advertised, promoted, or offered. Effective 6-14-01.

C200.1.10 is revised to amend the standard for label carriers for Periodicals. This revision allows mailers to put information about any Periodicals publication on the label carrier. Effective 1-10-02.

C700.2.0 is amended to clarify that the nonmachinable surcharge for Parcel Post does not apply to parcels that contain perishable items. Effective 5-3-01.

C820 is revised to include standards for automation flats for the Automation Flat Sorting Machine (AFSM) 100. Effective 6-30-02.

D DEPOSIT, COLLECTION, AND DELIVERY

D010.1.5 is amended and D010.1.8 is added to reflect changes made to Form 5541, Pickup Service Statement, and to include the availability of pickup service for international mail. Effective 11-1-01.

D042.2.5, D042.2.6, and D042.2.7 are revised to reflect changes in mail delivery procedures to commercial mail receiving agencies. Effective 9-7-00.

D042.2.8 is added to provide procedures to identify when an office business center is considered a commercial mail receiving agency for postal purposes. Effective 12-14-01.

D042.2.6 is revised to reflect changes in mail delivery procedures to commercial mail receiving agencies. Effective 3-8-01.

D230 is revised to allow the Postal Service to cancel a Periodicals publication's additional entry authorization when the additional entry is not used for an entire calendar year. Effective 6-14-01.

D500.2.3 is revised to include information about Express Mail Manifesting. Effective 5-2-02.

D910 is revised to clarify the application procedure for post office box service. Effective 8-23-01.

E ELIGIBILITY

E120.1.4 is revised and Exhibit E120.1.4 is added to reflect the standard guidelines for creating package shipping labels. Effective 4-5-01.

E213.3.6 is revised to allow refunds for Periodicals mailings paid at First-Class Mail rates under certain circumstances. Effective 12-13-01.

E260.1.3 is revised to include standards for automation flats for the Automation Flat Sorting Machine (AFSM) 100. Effective 6-30-02.

E500.1.0 is updated to include information on Express Mail delivery and waiver of signature. Effective 7-1-01.

E500.1.8 and E500.1.9 are revised to include information about Express Mail Manifesting. Effective 5-2-02.

E610, E620, E713, E714, E751, E752, and E753 are revised for the new optional 5-digit scheme preparation for Standard Mail machinable and irregular parcels and for Package Services machinable and nonmachinable parcels. Effective 7-12-01.

E610 and E752 are revised to implement mail preparation changes for First-Class Mail, Standard Mail, and Bound Printed Matter flats. Effective 9-1-01.

E620.2.0 is amended to clarify that commingled Standard Mail machinable and irregular parcels are eligible for 3/5 rates. Effective 10-4-01.

E650.6.1 and E752.3.0 are revised to allow a new optional level of pallet sort for a limited number of sectional center facility (SCF) service areas. This option is available for Periodicals nonletters (flats and irregular parcels), Standard Mail flats, and Bound Printed Matter flats prepared on pallets. Effective 3-31-02.

E670.5.11 is revised to reflect an increase for low-cost products mailable at Nonprofit Standard Mail rates. Effective 1-1-01 and 1-1-02.

E670.8.1 is revised to introduce an option to mail at Nonprofit Standard Mail rates via the NetPost Mailing Online experiment. Effective 4-5-01.

E710.3.1 is revised to remove the requirement that a return address appear on Bound Printed Matter pieces with no ancillary service endorsement or special service. Effective 9-6-01.

E712.1.2 is revised to rescind provisions concerning merchandise samples as enclosures with Bound Printed Matter. In its place, E712.1.2b provides for the inclusion of “nonprint” attachments and enclosures so long as such attachments and enclosures are incidental to the qualifying Bound Printed Matter material and have minimal commercial value. Effective 6-14-01.

E751 Exhibits 6.0, 7.0, and 8.0 are amended to add, delete, and change ZIP Codes for Parcel Select destination entry. Effective 2-8-01, 2-22-01, 4-19-01, 5-28-01, 6-28-01, 7-12-01, 7-26-01, 8-23-01, 9-20-01.

F FORWARDING AND RELATED SERVICES

Exhibit F010.4.1 is revised to reflect changes in mail delivery procedures to commercial mail receiving agencies. Effective 9-7-00.

F010.4.7 is added to clarify that undeliverable-as-addressed Mailgrams are treated as First-Class Mail. Effective 10-4-01.

G GENERAL INFORMATION

G030 is amended to clarify the method used to determine postal zones and to update postal zone information. Effective 6-30-02.

G091.2.1, G091.2.2, G091.3.0, and G091.4.1 are revised to introduce an option to mail at Nonprofit Standard Mail rates via the NetPost Mailing Online experiment. Effective 4-5-01.

G095 is added to describe the eligibility, standards, physical characteristics, markings, and rates that apply to the experimental presorted Priority Mail classification. Effective 7-15-01.

L LABELING LISTS

Labeling lists are periodically updated to reflect changes in mail processing operations. Please see individual lists.

M MAIL PREPARATION AND SORTATION

M011.1.0, M031.4.9, M041.5.0, M045.3.0, M920, M930, and M940 are revised to allow a new optional level of pallet sort for a limited number of sectional center facility (SCF) service areas. This option is available for Periodicals nonletters (flats and irregular parcels), Standard Mail flats, and Bound Printed Matter flats prepared on pallets. Effective 3-31-02.

M011.1.3, M011.1.4, M045.2.2, M130.1.7, M210.1.0, M220.1.0, M610.1.0, M620.1.0, M820.1.0, M910, M920, M930, and M940 are revised and M950 is added to provide a new preparation option that allows mailers to combine flat-size automation rate pieces and flat-size Presorted rate pieces of the same mail class within the same package. This new preparation option is called “co-packaging” and is available for First-Class Mail, Periodicals, and Standard Mail. Effective 3-31-02.

M011.1.3 and M013.1.1 are revised and M210.5.0 and M220.5.0 are deleted to remove the option that allows mailers to bedload bundles of Periodicals flats. Effective 3-31-02.

M011, M032, M041, M045, M073, M610, M710, M722, M723, M730, and M740 are revised for the new optional 5-digit scheme preparation for Standard Mail machinable and irregular parcels and for Package Services machinable and nonmachinable parcels. Effective 7-12-01.

M011, M041, M045, M130, M610, M620, M723, M820, M910, M920, M930, and M940 are revised to implement mail preparation changes for First-Class Mail, Standard Mail, and Bound Printed Matter flats. Effective 9-1-01.

M012 is revised to discontinue the use of old markings on Bound Printed Matter, Media Mail, and Library Mail. These markings were changed on January 7, 2001, in conjunction with the R2000-1 Omnibus Rate Case. Mailers were given until January 1, 2002, to change over to the new markings and use any preprinted stationery and packaging. Effective 1-1-02.

M012.3.1 is revised and Exhibit M012.3.1 is added to reflect the standard guidelines for creating package shipping labels. Effective 4-5-01.

M013 is revised to provide mailers with two new optional endorsement lines (OEL). These new format options allow mailers to list carrier route line-of-travel (LOT) information for Periodicals and Standard Mail within an OEL. Effective 6-14-01.

M020 is revised to improve package integrity for Periodicals and Standard Mail by prescribing basic standards for preparing and securing all packages and incorporating standards that pertain individually to packages on pallets, packages in sacks, and packages in trays. Effective 7-1-01.

M031, M045, M920, M930, and M940 are revised to require pallets of Periodicals and Standard Mail containing carrier route mail and/or Presorted rate mail to show “NONBARCODED” or “NBC” in the pallet label. These pallet label standards were originally revised effective January 7, 2001, in conjunction with implementation of the R2000-1 omnibus rate case. Mailers were given until July 15, 2001, to comply. Effective 7-15-01.

M031.3.1 is amended to clarify label holder placement on letter and flat trays. Effective 10-4-01.

M031.4.0 is amended to clarify the required information that must appear on a pallet label. This revision provides descriptions of what should appear on the destination line (Line 1), content line (Line 2), and office of mailing or mailer information line (Line 3) of pallet labels. Effective 6-14-01.

M031.4.7 is amended to correct information about the mailer information line on pallet labels. Effective 7-12-01.

M032.2.3 is revised to show that zebra codes (the series of diagonal or vertical marks on barcoded tray labels) are required only on trays of automation letters and flats. Effective 11-1-01.

M041.5.3 is revised to remove the minimum weight requirement for pallets of Periodicals, Standard Mail, and Package Services mail dropped at a destination delivery unit by the mailer or mailer's agent. Effective 6-14-01.

M050 is revised to change the documentation requirements for Periodicals and Standard Mail mailings sequenced in line-of-travel (LOT) order. Effective 9-6-01.

M500.2.2 is revised to show that the waiver of signature option is not available for Express Mail Custom Designed Service. Effective 12-27-01.

M500.2.2 and M500.3.3 are updated to include information on Express Mail delivery and waiver of signature. Effective 7-1-01.

M500.3.0 is revised to include information about Express Mail Manifesting. Effective 5-2-02.

M820.1.0 is revised to include standards for automation flats for the Automation Flat Sorting Machine (AFSM) 100. Effective 6-30-02.

P POSTAGE AND PAYMENT METHODS

P012.2.4 is revised to allow a new optional level of pallet sort for a limited number of sectional center facility (SCF) service areas. This option is available for Periodicals nonletters (flats and irregular parcels), Standard Mail flats, and Bound Printed Matter flats prepared on pallets. Effective 3-31-02.

P013.6.0, P500.1.1, and P910.4.1 are revised and P910.6.0, P910.7.0, and P910.8.0 are added to include information about Express Mail Manifesting. Effective 5-2-02.

P013.7.1, P013.7.2, and P200.1.2 are revised and P200.4.0 is added to add references to the new Periodicals Accuracy, Grading, and Evaluation (PAGE) Program. PAGE can be used to determine per-copy weights and to substantiate the advertising percentage in Periodicals. Effective 3-7-02.

P014 is revised to clarify the refund policy for metered postage. Effective 1-1-02.

P014 and P022 are revised to reflect changes in the pricing of semipostal stamps and to add a new semipostal stamp. Effective 3-7-02.

P030 is revised in its entirety to include policies and regulations pertaining to more secure postage evidencing systems, such as those digitally printing meters that use a Postal Security Device (PSD), those digitally printing meters that generate information-based indicia (IBI), and PC Postage systems. Effective 1-1-02.

P030 is revised to allow the use of information-based indicia (IBI) to show evidence of postage in the same manner as letterpress and digital meter stamps. This extends the use of IBI to all mail classes except Periodicals. Effective 7-17-01.

P030 is revised to allow zoned-rate metered Priority Mail to be deposited in collection boxes. Effective 10-4-01.

P030.8.3 is deleted because the restrictions on mixed forms of postage evidencing are no longer necessary. Effective 5-2-02.

P030.11.4 is revised to clarify the locations at which metered mail can be deposited. Effective 3-7-02.

P040.2.4 is revised to allow more flexibility in designing and producing reusable envelopes. Effective 5-2-02.

P910 is revised to reflect minor revisions to procedures for manifest mailings. Effective 1-1-02.

P920 is revised to clarify the standards for entry of mail under optional procedures. Changes include reorganization of the standards and clarification of record keeping and quality control requirements as well as procedures for applying to mail under an OP Mailing System. Effective 3-7-02.

R RATES AND FEES

R000 is revised to reflect changes in the pricing of semipostal stamps and to add a new semipostal stamp. Effective 3-7-02.

R200 is revised to include standards for automation flats for the Automation Flat Sorting Machine (AFSM) 100. Effective 6-30-02.

S SPECIAL SERVICES

S010.2.5 and S500.1.1 are revised to include information about Express Mail Manifesting. Effective 5-2-02.

S500.1.4, S500.1.5, and S921.1.9 are revised to show that the waiver of signature option is not available for Express Mail Custom Designed Service and to update the language for the availability of COD service with Express Mail service. Effective 12-27-01.

S913.2.5 is revised to reflect the updated Publication 91, Confirmation Services Technical Guide. S919.2.1c, S919.3.3a, and Exhibit S919.2.1c are revised and Exhibit S919.3.3 is added to reflect standard guidelines for mailers designing and printing their own shipping labels. Effective 7-1-01.

S916.3.3 is revised to update authorized agent information to support the revised Form 3849, Delivery Notice/Reminder/Receipt, and the electronic record management program. Effective 7-1-01.

I INDEX INFORMATION

I022, Subject Index, is revised and reorganized with new key words and concepts. Effective 9-6-01.

List of Subjects in 39 CFR Part 111

Administrative practice and procedure, Postal Service.

In consideration of the foregoing, 39 CFR part 111 is amended as set forth below:

PART 111—[AMENDED]

1. The authority citation for 39 CFR part 111 continues to read as follows:

Authority: 5 U.S.C. 552(a); 39 U.S.C. 101, 401, 403, 404, 414, 3001-3011, 3201-3219, 3403-3406, 3621, 3626, 5001.

2. The table at the end of § 111.3(f) is amended by adding at the end thereof a new entry to read as follows:

§ 111.3 Amendments to the Domestic Mail Manual.

* * * * *

(f) * * *

Transmittal letter for issue | Dated | Federal Register publication
* * * * *
57 | June 30, 2002 | [INSERT ­CITATION FOR THIS FINAL RULE]

3. Section 111.5 is revised to read as follows:

§ 111.5 Contents of the Domestic Mail Manual.

A ADDRESSING

A000 Basic Addressing

A010 General Addressing Standards

A040 Alternative Addressing Formats

A060 Detached Address Labels (DALs)

A800 Addressing for Barcoding

A900 Customer Support

A910 Mailing List Services

A920 Address Sequencing Services

A930 Other Services

A950 Coding Accuracy Support System (CASS)

C CHARACTERISTICS AND CONTENT

C000 General Information

C010 General Mailability Standards

C020 Restricted or Nonmailable Articles and Substances

C021 Articles and Substances Generally

C022 Perishables

C023 Hazardous Materials

C024 Other Restricted or Nonmailable Matter

C030 Nonmailable Written, Printed, and Graphic Matter

C031 Written, Printed, and Graphic Matter Generally

C032 Sexually Oriented Advertisements

C033 Pandering Advertisements

C050 Mail Processing Categories

C100 First-Class Mail

C200 Periodicals

C500 Express Mail

C600 Standard Mail

C700 Package Services

C800 Automation-Compatible and Machinable Mail

C810 Letters and Cards

C820 Flats

C840 Barcoding Standards for Letters and Flats

C850 Barcoding Standards for Parcels

D DEPOSIT, COLLECTION, AND DELIVERY

D000 Basic Information

D010 Pickup Service

D020 Plant Load

D030 Recall of Mail

D040 Delivery of Mail

D041 Customer Mail Receptacles

D042 Conditions of Delivery

D070 Drop Shipment

D071 Express Mail and Priority Mail

D072 Metered Mail

D100 First-Class Mail

D200 Periodicals

D210 Basic Information

D230 Additional Entry

D500 Express Mail

D600 Standard Mail

D700 Package Services

D900 Other Delivery Services

D910 Post Office Box Service

D920 Caller Service

D930 General Delivery and Firm Holdout

E ELIGIBILITY

E000 Special Eligibility Standards

E010 Overseas Military Mail

E020 Department of State Mail

E030 Mail Sent by U.S. Armed Forces

E040 Free Matter for the Blind and Other Handicapped Persons

E050 Official Mail (Franked)

E060 Official Mail (Penalty)

E070 Mixed Classes

E080 Absentee Balloting Materials

E100 First-Class Mail

E110 Basic Standards

E120 Priority Mail

E130 Nonautomation Rates

E140 Automation Rates

E150 Qualified Business Reply Mail (QBRM)

E200 Periodicals

E210 Basic Standards

E211 All Periodicals

E212 Qualification Categories

E213 Periodicals Mailing Privileges

E214 Reentry

E215 Copies Not Paid or Requested by Addressee

E216 Publisher Records

E217 Basic Rate Eligibility

E220 Presorted Rates

E230 Carrier Route Rates

E240 Automation Rates

E250 Destination Entry

E260 Ride Along

E270 Preferred Periodicals

E500 Express Mail

E600 Standard Mail

E610 Basic Standards

E620 Presorted Rates

E630 Enhanced Carrier Route Rates

E640 Automation Rates

E650 Destination Entry

E670 Nonprofit Standard Mail

E700 Package Services

E710 Basic Standards

E711 Parcel Post

E712 Bound Printed Matter

E713 Media Mail

E714 Library Mail

E750 Destination Entry

E751 Parcel Select

E752 Bound Printed Matter

E753 Combining Package Services Parcels

F FORWARDING AND RELATED SERVICES

F000 Basic Services

F010 Basic Information

F020 Forwarding

F030 Address Correction, Address Change, FASTforward, and Return Services

G GENERAL INFORMATION

G000 The USPS and Mailing Standards

G010 Basic Business Information

G011 Post Offices and Postal Services

G013 Trademarks and Copyrights

G020 Mailing Standards

G030 Postal Zones

G040 Information Resources

G042 Rates and Classification Service Centers

G043 Address List for Correspondence

G090 Experimental Classifications and Rates

G091 NetPost Mailing Online

G095 Presorted Priority Mail

G900 Philatelic Services

L LABELING LISTS

L000 General Use

L001 5-Digit Scheme—Periodicals Flats and Irregular Parcels, Standard Mail Flats, and BPM Flats

L002 3-Digit ZIP Code Prefix Matrix

L003 3-Digit ZIP Code Prefix Groups—3-Digit Scheme Sortation

L004 3-Digit ZIP Code Prefix Groups—ADC Sortation

L005 3-Digit ZIP Code Prefix Groups—SCF Sortation

L006 5-Digit Metro Scheme

L600 Standard Mail and Package Services

L601 BMCs

L602 ASFs

L603 ADCs—Irregular Standard Mail Parcels

L604 Originating ADCs—Standard Mail Irregular Parcels

L605 BMCs/ASFs—Nonmachinable Parcel Post BMC Presort and OBMC Presort

L606 5-Digit Scheme—Standard Mail and Package Services Parcels

L800 Automation Rate Mailings

L801 AADCs—Letter-Size Mailings

L802 BMC/ASF Entry—Periodicals, Standard Mail, and BPM

L803 Non-BMC/ASF Entry—Periodicals, Standard Mail, and BPM

M MAIL PREPARATION AND SORTATION

M000 General Preparation Standards

M010 Mailpieces

M011 Basic Standards

M012 Markings and Endorsements

M013 Optional Endorsement Lines

M014 Carrier Route Information Lines

M020 Packages

M030 Containers

M031 Labels

M032 Barcoded Labels

M033 Sacks and Trays

M040 Pallets

M041 General Standards

M045 Palletized Mailings

M050 Delivery Sequence

M070 Mixed Classes

M071 Basic Information

M072 Express Mail and Priority Mail Drop Shipment

M073 Combined Mailings of Standard Mail and Package Services Parcels

M074 Plant Load Mailings

M100 First-Class Mail (Nonautomation)

M110 Single-Piece First-Class Mail

M120 Priority Mail

M130 Presorted First-Class Mail

M200 Periodicals (Nonautomation)

M210 Presorted Rates

M220 Carrier Route Rates

M230 Combining Multiple Editions or Publications of the Same Publisher

M500 Express Mail

M600 Standard Mail (Nonautomation)

M610 Presorted Standard Mail

M620 Enhanced Carrier Route Standard Mail

M700 Package Services

M710 Parcel Post

M720 Bound Printed Matter

M721 Single-Piece Bound Printed Matter

M722 Presorted Bound Printed Matter

M723 Carrier Route Bound Printed Matter

M730 Media Mail

M740 Library Mail

M800 All Automation Mail

M810 Letter-Size Mail

M820 Flat-Size Mail

M900 Advanced Preparation Options for Flats

M910 Co-Traying and Co-Sacking Package of Automation and Presorted Mailings

M920 Merged Containerization of Packages Using the City State Product

M930 Merged Palletization of Packages Using a 5% Threshold

M940 Merged Palletization of Packages Using the City State Product and a 5% Threshold

M950 Co-Packaging Automation Rate and Presorted Rate Pieces

P POSTAGE AND PAYMENT METHODS

P000 Basic Information

P010 General Standards

P011 Payment

P012 Documentation

P013 Rate Application and Computation

P014 Refunds and Exchanges

P020 Postage Stamps and Stationery

P021 Stamped Stationery

P022 Postage Stamps

P023 Precanceled Stamps

P030 Postage Meters (Postage Evidencing Systems)

P040 Permit Imprints

P070 Mixed Classes

P100 First-Class Mail

P200 Periodicals

P500 Express Mail

P600 Standard Mail

P700 Package Services

P900 Special Postage Payment Systems

P910 Manifest Mailing System (MMS)

P920 Optional Procedure (OP) Mailing System

P930 Alternate Mailing Systems (AMS)

P950 Plant-Verified Drop Shipment (PVDS)

P960 First-Class or Standard Mail Mailings With Different Payment Methods

R RATES AND FEES

R000 Stamps and Stationery

R100 First-Class Mail

R200 Periodicals

R500 Express Mail

R600 Standard Mail

R700 Package Services

R900 Services

S SPECIAL SERVICES

S000 Miscellaneous Services

S010 Indemnity Claims

S020 Money Orders and Other Services

S070 Mixed Classes

S500 Special Services for Express Mail

S900 Special Postal Services

S910 Security and Accountability

S911 Registered Mail

S912 Certified Mail

S913 Insured Mail

S914 Certificate of Mailing

S915 Return Receipt

S916 Restricted Delivery

S917 Return Receipt for Merchandise

S918 Delivery Confirmation

S919 Signature Confirmation

S920 Convenience

S921 Collect on Delivery (COD) Mail

S922 Business Reply Mail (BRM)

S923 Merchandise Return Service

S924 Bulk Parcel Return Service

S930 Handling

I INDEX INFORMATION

I000 Information

I010 Summary of Changes

I020 References

I021 Forms Glossary

I022 Subject Index

Stanley F. Mires,
Chief Counsel, Legislative.

[FR Doc. 02-17890 Filed 7-16-02; 8:45 am]

BILLING CODE 7710-12-P